DEPARTMENT OF JUSTICE

Federal Bureau of Investigation

[OMB Number 1110-0042]

Agency Information Collection Activities: Proposed New Collection, Comments Requested

ACTION: 30-Day Notice of Information Collection Under Review: CJIS Customer Satisfaction Surveys.

The Department of Justice (DOJ), Federal Bureau of Investigation (FBI), Criminal Justice Information Services (CJIS) Division will be submitting the following information collection request to the Office of Management and Budget (OMB) for review and clearance in accordance with review procedures of the Paperwork Reduction Act of 1995. The proposed information collection was previously published in the Federal Register Volume 72, Number 148, page 42429, on August 2, 2007, allowing for a 60 day comment period.

The purpose of this notice is to allow for an additional 30 days for public comment until November 13, 2007. This process is conducted in accordance with 5 CFR 1320.10.

Written comments and/or suggestions regarding the items contained in this notice, especially estimated public burden and associated response time, should be directed to the Office of Management and Budget, Office of Information and Regulatory Affairs, Attention: Department of Justice Desk Officer, Washington, DC 20503. Additionally, comments may be submitted to OMB via facsimile to (202) 395-7285.

Written comments and suggestions from the public and affected agencies concerning the proposed collection of information are encouraged. Your comments should address one or more of the following four points:

—Evaluate whether the proposed collection of information is necessary for the proper performance of the functions of the agency/component, including whether the information will have practical utility;

—Evaluate the accuracy of the agencies/components estimate of the burden of the proposed collection of information, including the validity of the methodology and assumptions used;

—Enhance the quality, utility, and clarity of the information to be collected; and

—Minimize the burden of the collection of information on those who are to respond, including the use of appropriate automated, electronic, mechanical, or other technological collection techniques or other forms of information technology, e.g., permitting electronic submission of responses.

Overview of this information collection:

(1) Type of Information Collection: Revision of previously approved collection.

(2) Title of the Form/Collection: CJIS Customer Satisfaction Surveys.

(3) Agency Form Number, if any, and the applicable component of the department sponsoring the collection: Form Number: 1-760, 1-761, 1-762, 1-763, 1-764, 1-765, 1-766 and 1-770. Criminal Justice Information Services Division, Federal Bureau of Investigation, Department of Justice.

(4) Affected Public who will be asked or required to respond, as well as a brief abstract: Primary: State, local or tribal governments. Other: Federal Government and business or other for-profit.

Brief Abstract: The FBI established the CJIS Division to serve as the focal point and central repository for criminal justice information services within the FBI. The CJIS Division is responsible for the following programs administered by the FBI for the benefit of local, state, federal, and foreign criminal justice agencies: Integrated Automated Identification System; Law Enforcement Online; National Crime Information Center; National Instant Criminal Background Check System—Federal Firearm Licensees; National Instant Criminal Background Check System—Point of Contact and Partial Point of Contact States; Uniform Crime Reporting; Interstate Identification Index; and the CJIS Division Intelligence Group.

CJIS will be conducting a customer service survey for each of the eight aforementioned programs. These surveys will be used to establish approval rating baselines of CJIS Division services in addition to identifying areas where our services can be improved or new services established to assist the criminal justice community with the performance of their official duties.

(5) An estimate of the total number of respondents and the amount of time estimated for and average respondent to respond:

Integrated Automated Fingerprint Identification Systemm − Respondents = 400, Average Completion Time = 4 minutes; Law Enforcement Online − Respondents = 400, Average Completion Time = 2 minutes; National Crime Information Center − Respondents = 400, Average Completion Time = 3 minutes; National Instant Criminal Background Check System—Federal Firearm Licensees − Respondents = 400, Average Completion Time = 2 minutes; National Instant Criminal Background Check System—Point of Contact and Partial Point of Contact − Respondents = 21, Average Completion Time = 3 minutes; Uniform Crime Reporting − Respondents = 400, Average Completion Time = 3 minutes; Interstate Identification Index − Respondents = 400, Average Completion Time = 3 minutes; CJIS Division Intelligence Group − Respondents = 400, Average Completion Time = 3 minutes.

(6) An estimate of the total public burden (in hours) associated with the collection:

There are an estimated 134 total public burden hours associated with this collection.

If additional information is required contact: Ms. Lynn Bryant, Department Clearance Officer, Information Management and Security Staff, Justice Management Division, United States Department of Justice, Patrick Henry Building, Suite 1600, 601 D Street, NW., Washington, DC 20530.

Dated: October 4, 2007.
Lynn Bryant,
Department Clearance Officer, PRA, United States Department of Justice.

[FR Doc. E7-20043 Filed 10-10-07; 8:45 am]

BILLING CODE 4410-02-P